DEPARTMENT OF THE INTERIOR

Bureau of Land Management

[L10200000.LLHQ2200000.PH0000.LXSIWEED0000]

Notice of Intent To Prepare a Programmatic Environmental Impact Statement for Approval of Herbicide Active Ingredients for Use on Public Lands

AGENCY: Bureau of Land Management, Interior.

ACTION: Notice of intent.

SUMMARY: In compliance with the National Environmental Policy Act of 1969, as amended (NEPA), and the Federal Land Policy and Management Act of 1976, as amended, the Bureau of Land Management (BLM) intends to prepare a Programmatic Environmental Impact Statement (EIS) to analyze the impacts to the environment from approving new herbicide active ingredients for use on BLM-managed public lands. By this notice, the BLM is announcing the beginning of the scoping process and is soliciting public comments regarding potential environmental impacts, potential alternatives, and relevant studies or analyses.

DATES: This notice initiates the 30-day public scoping process for the EIS. The BLM requests comments concerning the scope of the analysis, potential alternatives, and identification of relevant information, studies, and analyses by May 4, 2022.

ADDRESSES: You may submit comments on issues related to the approval of herbicide active ingredients for use on public lands by any of the following methods:

• Website: https://go.usa.gov/xtk6a.

• Email: BLM_Herbicide_EIS@blm.gov.

• Mail: Seth Flanigan—Project Manager, HQ-220, 1387 South Vinnell Way, Boise, ID 83709.

Documents pertinent to this proposal may be examined online at https://go.usa.gov/xtk6a.

FOR FURTHER INFORMATION CONTACT: Seth Flanigan, Senior Natural Resource Specialist, telephone: 208-373-4094; email: BLM_Herbicide_EIS@blm.gov. Individuals in the United States who are deaf, deafblind, hard of hearing, or have a speech disability may dial 711 (TTY, TDD, or TeleBraille) to access telecommunications relay services for contacting Mr. Flanigan. Individuals outside the United States should use the relay services offered within their country to make international calls to the point-of-contact in the United States.

SUPPLEMENTARY INFORMATION: This document provides notice that the BLM intends to prepare a Programmatic EIS for a review of herbicides that may be approved for use in vegetation treatments on BLM-managed public lands, announces the beginning of the associated scoping process, and seeks public input.

Purpose and Need for the Proposed Action

The BLM's purpose and need is to improve the effectiveness of its invasive plant management efforts by allowing the use of Environmental Protection Agency (EPA)-registered herbicides not currently authorized for use on BLM public lands. Approving additional herbicides would diversify the BLM's herbicide treatment options and help meet the purposes that were first identified in the 2007 and 2016 Programmatic EISs also related to vegetation treatments, which are to make herbicides available for vegetation treatment on public lands and to describe the stipulations that apply to their use.

Preliminary Proposed Action and Alternatives

The BLM proposes to approve and use several herbicide active ingredients, including aminocyclopyrachlor, clethodim, fluozifop-p-butyl, flumioxazin, imazamox, indaziflam, oryzalin, and trifluralin, for use in vegetation treatments on public lands. These active ingredients are registered by the EPA. In an action to approve any of these active ingredients, the BLM will adopt and rely on Human Health and Ecological Risk Assessments prepared by the U.S. Forest Service.

Preliminary Issues

The purpose of the public scoping process is to determine relevant issues that will influence the scope of the environmental analysis, including alternatives, and guide the planning process. Preliminary issues for the analysis have been identified by BLM personnel and other stakeholders. These include effects to vegetation resources including special status plant species, aquatic and terrestrial wildlife species and their habitat including special status animal species, soil ecology, water quality, pollinator habitat, and cultural and historic resources.

Schedule for the Decision-Making Process

The BLM will provide additional opportunities for public participation consistent with the NEPA process, including a 45-day comment period on the Draft EIS. The Draft EIS is anticipated to be available for public review beginning in November 2022. The BLM anticipates releasing a Final EIS in March 2023 and anticipates issuing a Record of Decision in April 2023.

Public Scoping Process

This notice of intent initiates the scoping period and public review of the planning criteria, which will guide the development and analysis of the Draft EIS.

The BLM does not intend to hold any public meetings during the public scoping period. Should the BLM later decide to hold public meetings, the specific date(s) and location(s) of any meeting will be announced at least 15 days in advance through local media, newspapers, and the BLM website at: https://go.usa.gov/xtk6a.

Responsible Official

Assistant Director for Resources and Planning.

Nature of Decision To Be Made

Through this process, the BLM will decide whether to approve the herbicide active ingredients identified earlier for use on BLM-managed public lands. This decision will be based on the best available science and current needs for vegetation management. Any authorization to apply any of these active ingredients at a particular site will be made through a separate, site-specific decision and so is not within the scope of the programmatic EIS or potential decision described in this notice.

Interdisciplinary Team and Coordination

The BLM will identify and analyze the proposed action and all reasonable alternatives to address their reasonably foreseeable impacts and, in accordance with 40 CFR 1502.14(e), include in that analysis appropriate mitigation measures not already included in the proposed action or alternatives. Mitigation may include avoidance, minimization, rectification, reduction or elimination over time, or compensation, and may be considered at multiple scales, including the landscape scale.

The BLM will coordinate the NEPA process with other required reviews under the Endangered Species Act (16 U.S.C. 1536) and section 106 of the National Historic Preservation Act (54 U.S.C. 306108) as provided in 36 CFR 800.2(d)(3), including public involvement requirements of Section 106. Information about historic and cultural resources and threatened and endangered species within areas potentially affected by the proposed action or alternatives will assist the BLM in identifying and evaluating impacts to such resources. The BLM will consult with Indian tribes on a government-to-government basis in accordance with Executive Order 13175, BLM MS 1780, and other Departmental policies. Tribal concerns, including impacts on Indian trust assets and potential impacts to cultural resources, will be given due consideration.

Federal, State, and local agencies, along with tribes and other stakeholders that may be interested in or affected by the proposed action that the BLM is evaluating, are invited to participate in the scoping process. If eligible, the BLM may request Federal, State, or local agencies to participate in the development of the environmental analysis as cooperating agencies.

Before including your address, phone number, email address, or other personal identifying information in your comment, you should be aware that your entire comment—including your personal identifying information—may be made publicly available at any time. While you can ask us in your comment to withhold your personal identifying information from public review, we cannot guarantee that we will be able to do so.

(Authority: 40 CFR 1501.7)

David Jenkins,
Assistant Director, Resources and Planning.

[FR Doc. 2022-07017 Filed 4-1-22; 8:45 am]

BILLING CODE 4310-84-P